DEPARTMENT OF HOUSING AND URBAN DEVELOPMENT

[Docket No. FR-4557-N-49]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Clifford Taffet, room 7266, Department of Housing and Urban Development, 451 Seventh Street, SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Homeless assistance providers interested in any such property should send a written expression of interest to HHS, addressed to Brian Rooney, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Clifford Taffet at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: GSA: Mr. Brian K. Polly, Assistant Commissioner, General Services Administration, Office of Property Disposal, 18th and F Streets, NW., Washington, DC 20405; (202) 501-0052; INTERIOR: Ms. Linda Tribby, Department of the Interior, 1849 C Street, NW., Mail Stop 5512-MIB, Washington, DC 20240; (202) 219-0728; NAVY: Mr. Charles C. Cocks, Director, Department of the Navy, Real Estate Policy Division, Naval Facilities Engineering Command, Washington Navy Yard, 1322 Patterson Ave., SE., Suite 1000, Washington, DC 20374-5065; (202) 685-9200; VA: Mr. Anatolij Kushnir, Director, Asset & Enterprise Development Service, 181B, Department of Veterans Affairs, 811 Vermont Ave., NW., Room 419, Lafayette Bldg., Washington, DC 20420; (202) 565-5941; (These are not toll-free numbers).

Dated: November 30, 2000.
Fred Karnas, Jr.,
Deputy Assistant Secretary for Special Needs Assistance Programs.

Title V. Federal Surplus Property Program Federal Register Report for 12/8/00

Suitable/Available Properties

Buildings (by State)

New Jersey

Holmdel Housing Site

Telegraph Hill Road

Holmdel Co: Monmouth NY 07733-

Landholding Agency: GSA

Property Number: 54200040005

Status: Excess

Comment: 12 housing units on 5.59 acres, 1196 sq. ft. each, extreme disrepair

GSA Number: 1-N-NJ-622

Former Hermann House

Tract 307-26

Mt. Salem Rd/Goldsmith Rd

Wantage Township Co: Sussex NJ 07460-

Landholding Agency: Interior

Property Number: 61200040002

Status: Excess

Comment: 1000 sq. ft., most recent use—residential, off-site use only

Former Hermann Garage

Tract 307-26

Mt. Salem Rd/Goldsmith Rd

Wantage Township Co: Sussex NJ 07460-

Landholding Agency: Interior

Property Number: 61200040003

Status: Excess

Comment: 300 sq. ft., off-site use only

New York

Naval Reserve Center

Frankfort Co: Herkimer NY

Landholding Agency: GSA

Property Number: 54200040006

Status: Excess

Comment: 23,800 sq. ft., brick, good condition, most recent use—training center

GSA Number: 1-D-NY-874

Texas

Duplex

Tract 105-71

San Antonio Missions

San Antonio Co: Bexar TX 78214-

Landholding Agency: Interior

Property Number: 61200040007

Status: Unutilized

Comment: 2027 sq. ft., located in Historic District, most recent use—residential, off-site use only

House

Tract 105-71

San Antonio Missions

San Antonio Co: Bexar TX 78214-

Landholding Agency: Interior

Property Number: 61200040008

Status: Unutilized

Comment: 2096 Sq. ft., located in Historic District, most recent use—residential, off-site use only

Rock House

Tract 105-05

San Antonio Missions

San Antonio Co: Bexar TX 78214-

Landholding Agency: Interior

Property Number: 61200040009

Status: Unutilized

Comment: 1966 sq. ft., located in Historic District, most recent use—office, off-site use only

Land (by State)

Pennsylvania

Gwen Site #868

Bonneauville

Smith Road

Gettysburg Co: Adams PA

Landholding Agency: GSA

Property Number: 54200040007

Status: Surplus

Comment: 13.85 acres, most recent use—to support communication

GSA Number: 4-D-PA-0788

Virginia

Land

Marine Corps Base

Quantico Co: VA 22134-

Landholding Agency: Navy

Property Number: 77200040034

Status: Unutilized

Comment: 4900 sq. ft. open space

Suitable/Unavailable Properties

Buildings (by State)

Montana

VA MT Healthcare

210 S. Winchester

Miles City Co: Custer MT 59301-

Landholding Agency: VA

Property Number 97200030001

Status: Underutilized

Comment: 18 buildings, total sq. ft. = 123,851, presence of asbestos, most recent use—clinic/office/food production

Unsuitable Properties

Buildings (by State)

Florida

Bldg. 1801

Naval Station Mayport

Mayport Co: Duval FL 32228-

Landholding Agency: Navy

Property Number 77200040035

Status: Unutilized

Reasons: Within 2000 ft. of flammable or explosive material; Floodway; Secured Area; Extensive deterioration

Bldg. 1802

Naval Station Mayport

Mayport Co: Duval FL 32228-

Landholding Agency: Navy

Property Number 77200040036

Status: Unutilized

Reasons: Within 2000 ft. of flammable or explosive material; Floodway; Secured Area; Extensive deterioration

Bldg. 1803

Naval Station Mayport

Mayport Co: Duval FL 32228-

Landholding Agency: Navy

Property Number 77200040037

Status: Unutilized

Reasons: Within 2000 ft. of flammable or explosive material; Floodway; Secured Area; Extensive deterioration

Bldg. 1859

Naval Station Mayport

Mayport Co: Duval FL 32228-

Landholding Agency: Navy

Property Number 77200040038

Status: Unutilized

Reasons: Within 2000 ft. of flammable or explosive material; Floodway; Secured Area; Extensive deterioration

Massachusetts

Bierlich House

Tract 03-128

Lincoln Co: Middlesex MA 01773-

Landholding Agency: Interior

Property Number 61200040010

Status: Excess

Reason: Extensive deterioration

New Jersey

Bldg. 1042

Naval Air Eng. Station

Lakehurst Co: Ocean NJ 08733-5000

Landholding Agency: Navy

Property Number 77200040039

Status: Unutilized

Reason: Extensive deterioration

Tennessee

Bldg. 487

Bahl House

Great Smoky Mtns.

Indian Camp Creek Co: Sevier TN 37722-

Landholding Agency: Interior

Property Number: 61200040004

Status: Excess

Reason: Extensive deterioration

Bldg. 488

Bahl House

Great Smoky Mtns.

Indian Camp Creek Co: Sevier TN 37722-

Landholding Agency: Interior

Property Number: 61200040005

Status: Excess

Reason: Extensive deterioration

Bldg. 489

Bahl House

Great Smoky Mtns.

Indian Camp Creek Co: Sevier TN 37722-

Landholding Agency: Interior

Property Number: 61200040006

Status: Excess

Reason: Extensive deterioration

[FR Doc. 00-30990 Filed 12-7-00; 8:45 am]

BILLING CODE 4210-29-M